NUCLEAR REGULATORY COMMISSION

10 CFR Part 50

[Docket No. PRM-50-107; NRC-2013-0077]

Submitting Complete and Accurate Information

AGENCY: Nuclear Regulatory Commission.

ACTION: Petition for rulemaking; acceptance, docketing, and request for comments.

SUMMARY: The U.S. Nuclear Regulatory Commission (NRC) is publishing for comment a petition for rulemaking (PRM) filed with the Commission by Mr. James Lieberman (the petitioner) on April 15, 2013. The petitioner requests that the NRC expand its “regulatory framework to make it a legal obligation for those non-licensees who seek NRC regulatory approvals be held to the same legal standards for the submittal of complete and accurate information as would a licensee or an applicant for a license.”

DATES: Submit comments by August 26, 2013. Comments received after this date will be considered if it is practical to do so, but the NRC is able to assure consideration only for comments received on or before this date.

ADDRESSES: You may submit comments by any of the following methods (unless this document describes a different method for submitting comments on a specific subject):

• Federal Rulemaking Web site: Go to http://www.regulations.gov and search for Docket ID NRC-2013-0077. Address questions about NRC dockets to Carol Gallagher; telephone: 301-492-3668; email: Carol.Gallagher@nrc.gov. For technical questions, contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on accessing information and submitting comments, see “Accessing Information and Submitting Comments” in the SUPPLEMENTARY INFORMATION section of this document.

FOR FURTHER INFORMATION CONTACT: Manash Bagchi, Office of Nuclear Reactor Regulation, U.S. Nuclear Regulatory Commission, Washington, DC 20555-0001; telephone: 301-415-2905, email: Manash.Bagchi@nrc.gov.

SUPPLEMENTARY INFORMATION:

Accessing Information and Submitting Comments

A. Accessing Information

Please refer to Docket ID NRC-2013-0077 when contacting the NRC about the availability of information for this petition for rulemaking. You may access information related to this petition for rulemaking, which the NRC possesses and is publicly available, by any of the following methods:

• Federal Rulemaking Web site: Go to http://www.regulations.gov and search for Docket ID NRC-2013-0077.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2013-0077 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

The Petition

The NRC has received a PRM (ADAMS Accession No. ML13113A443) requesting the NRC to revise its regulations at §§ 50.1, 50.9, 52.0, and 52.6 of Title 10 of the Code of Federal Regulations to expand its “regulatory framework to make it a legal obligation for those non-licensees who seek NRC regulatory approvals be held to the same legal standards for the submittal of complete and accurate information as would a licensee or an applicant for a license.”

The Petitioner

James Lieberman is a regulatory and nuclear safety consultant. The petition states that Mr. Lieberman is submitting the petition “based on [his] own experiences as a former NRC employee and a consultant in the nuclear industry.” The petition further states that James Lieberman was involved in the development of both the NRC rule on completeness and accuracy of information and the NRC rule on deliberate misconduct. The petition notes that Mr. Lieberman's interest is that “the NRC should have a regulatory framework that requires persons who seek NRC approval on regulatory matters to have a legal obligation to provide materially complete and accurate information and be subject to sanction for failure to meet those requirements.”

Request for Comment

The NRC has determined that the petition meets the threshold sufficiency requirements for a petition for rulemaking under § 2.802, “Petition for rulemaking,” and the petition has been docketed as PRM-50-107. The full text of the incoming petition is available at www.regualtions.gov by searching on Docket ID NRC-2013-0077 and in ADAMS under Accession No. ML13113A443. The NRC is requesting public comments on the petition for rulemaking.

For the Nuclear Regulatory Commission.
Dated at Rockville, Maryland, this 5th day of June 2013.
Richard J. Laufer,
Acting Secretary of the Commission.

[FR Doc. 2013-13684 Filed 6-7-13; 8:45 am]

BILLING CODE 7590-01-P